DEPARTMENT OF COMMERCE

Foreign-Trade Zones Board

[Docket 15-2009]

Foreign-Trade Zone 21—Charleston, SC; Area Application for Reorganization/Expansion

An application has been submitted to the Foreign-Trade Zones Board (the Board) by the South Carolina State Ports Authority, grantee of FTZ 21, requesting authority to reorganize and expand the zone project within and adjacent to the Charleston Customs and Border Protection port of entry. The application was submitted pursuant to the provisions of the Foreign-Trade Zones Act, as amended (19 U.S.C. 81a-81u), and the regulations of the Board (15 CFR part 400). It was formally filed on April 8, 2009.

FTZ 21 was approved on June 12, 1975 (Board Order 106, 40 FR 25613, 6/17/75) and expanded on February 28, 1995 (Board Order 734, 60 FR 12735, 3/8/95); June 20, 1996 (Board Order 832, 61 FR 33491, 6/27/96); October 23, 1996 (Board Order 850, 61 FR 57383, 11/6/96); June 20, 1997 (Board Order 905, 62 FR 36044, 7/3/97); September 5, 1997 (Board Order 918, 62 FR 48591, 9/16/97); and, July 25, 2000 (Board Order 1112, 65 FR 47953, 8/4/00).

The zone project consists of fourteen sites (9,025 acres total) in the Charleston area: Site 1 (134 acres)—Tri-County Industrial Park, 2725 West 5th Street, Summerville; Site 2 (57 acres)—Cainhoy Industrial Park, 10 Cainhoy Park Road, Wando; Site 3 (160 acres)—Crowfield Corporate Center, 754 College Park Road, Goose Creek; Site 4 (998 acres)—Low Country Regional Industrial Park, Highway 68 North, Early Branch; Site 5 (2,040 acres total, 12 parcels)—SCSPA's terminal complex at the Port of Charleston; Site 6 (19 acres)—Meadow Street Business Park, Loris; Site 7 (1,758 acres total)—Myrtle Beach International Airport (1,247 acres) and the former Myrtle Beach Air Force Base (511 acres), Myrtle Beach; Site 9 (548 acres)—within the 993-acre Charleston Business Park on Clements Ferry Road, Charleston; Site 10 (105 acres)—within the 133-acre Ashley Industrial Park, 3045 Ashley Phosphate Road, North Charleston; Site 11 (459 acres)—within the 500-acre Charleston International Commerce Park, 5500 International Blvd., Charleston; Site 12 (1,133 acres, 2 tracts)—within the Palmetto Commerce Park, Ladson Road, North Charleston; Site 13 (76 acres)—North Charleston Convention Center complex, 500 Coliseum Drive, North Charleston; Site 14 (1,514 acres)—the former Charleston Naval Base and Shipyard, Cosgrove Avenue, North Charleston; and, Site 15 (24 acres total, 2 parcels)—located at 3298 Benchmark Drive (15 acres) and 4597 Appian Way (9 acres) Charleston. (Site 8 was deleted in 2008.)

The applicant is now requesting authority for a reorganization and expansion of the zone, which includes both additions and deletions with an overall increase of 431 acres in total zone space as described below:

—Delete Site 3 (Crowfield Corporate Center) in its entirety due to changed circumstances;

—Modify Site 5 (Port of Charleston) by deleting 1,773 acres (new total acreage—267 acres);

—Modify Site 7 (Myrtle Beach International Airport/former Air Force Base) by deleting 98 acres (new total acreage—1,660 acres);

—Delete Site 10 (Ashley Industrial Park) in its entirety due to changed circumstances;

—Proposed Site 16 (343 acres)—within the 1,343-acre Bushy Park, 1588 Bushy Park Road, Goose Creek;

—Proposed Site 17 (190 acres)—Jedburg Industrial Park, 1090 Newton Way, Summerville;

—Proposed Site 18 (291 acres)—within the 400-acre Rockefeller Foreign Trade Zone, located at Drop Off Road and Interstate 26, Summerville;

—Proposed Site 19 (742 acres)—Charleston Trade Center—Hillwood, located at Old Dairy Road and Interstate 26, Summerville;

—Proposed Site 20 (94 acres)—within the 97-acre Omni Commerce Center, 990 Drop Off Lane, Summerville;

—Proposed Site 21 (445 acres)—Orangeburg City/County Industrial Park, 348 Millennium Drive, Orangeburg;

—Proposed Site 22 (284 acres)—Southern Patio Industrial Park, 1000 Southern Patio Parkway, Rowesville; and,

—Proposed Site 23 (178 acres)—within the 183-acre Colleton County Commerce Park, located at Interstate 95 and McLeod Road, Walterboro.

The sites will provide warehousing and distribution services to area businesses. No specific manufacturing authority is being requested at this time. Such requests would be made to the Board on a case-by-case basis.

In accordance with the Board's regulations, Camille Evans of the FTZ staff is designated examiner to investigate the application and report to the Board.

Public comment is invited from interested parties. Submissions (original and 3 copies) shall be addressed to the Board's Executive Secretary at the address below. The closing period for their receipt is June 15, 2009. Rebuttal comments in response to material submitted during the foregoing period may be submitted during the subsequent 15-day period to June 29, 2009.

A copy of the application will be available for public inspection at the Office of the Executive Secretary, Foreign-Trade Zones Board, Room 2111, U.S. Department of Commerce, 1401 Constitution Avenue, NW., Washington, DC 20230-0002, and in the “Reading Room” section of the Board's Web site, which is accessible via www.trade.gov/ftz. For further information, contact Camille Evans at Camille_Evans@ita.doc.gov or (202) 482-2350.

Dated: April 8, 2009.
Andrew McGilvray,
Executive Secretary.

[FR Doc. E9-8636 Filed 4-14-09; 8:45 am]

BILLING CODE 3510-DS-P